FEDERAL COMMUNICATIONS COMMISSION

47 CFR Part 10

[PS Docket Nos. 15-91 and 15-94; DA 25-12; FR ID 326387]

Wireless Emergency Alerts and the Emergency Alert System

AGENCY: Federal Communications Commission.

ACTION: Final rule; announcement of compliance date.

SUMMARY: In this document, the Federal Communications Commission (Commission) announces that the Office of Management and Budget (OMB) has approved a non-substantive change to the information collection associated with Wireless Emergency Alert (WEA) rules adopted in a Report and Order issued by the Public Safety and Homeland Security Bureau (Multilingual WEA Implementation Report and Order). These rules describe how commercial mobile service providers who participate in WEA (Participating CMS Providers) must implement multilingual templates for the most commonly issued and most time-sensitive types of alerts in English, the next thirteen most commonly spoken languages in the United States, and American Sign Language (ASL). Specifically, Participating CMS Providers shall support the pre-scripted templates published in 90 FR 57288 for eighteen emergency events. For English and the thirteen written languages, Participating CMS Providers must support the inclusion of four fillable elements that customize the pre-scripted alert templates: the name of the sending agency, the location pertaining to the alert message, the time when the emergency conditions described in the alert are expected to end, and an optional URL. When an alert originator sends a non-English template message, Participating CMS Providers must display the corresponding pre-scripted alert message in English after the non-English message.

DATES: Effective June 12, 2028. The amendments to 47 CFR 10.480 (amendatory instruction 2) and 47 CFR 10.500(e) (amendatory instruction 3), published at 90 FR 57288 on December 10, 2025, are effective on June 12, 2028.

FOR FURTHER INFORMATION CONTACT: Joshua Gehret, Cybersecurity and Communications Reliability Division, Public Safety and Homeland Security Bureau, (202) 418-7816 or joshua.gehret@fcc.gov. For the Paperwork Reduction Act information collection requirements contained in this document, contact Nicole Ongele, Office of Managing Director, Performance and Program Management, 202-418-2991 or PRA@fcc.gov.

SUPPLEMENTARY INFORMATION: This document announces that OMB approved the non-substantive change to the information collection requirements in 47 CFR 10.480 and 47 CFR 10.500(e) on January 12, 2026.

The Commission publishes this document as an announcement of the compliance date of the rules.

If you have any comments on the burden estimates listed in the following, or how the Commission can improve the collections and reduce any burdens caused thereby, please contact Nicole Ongele, Federal Communications Commission, 45 L Street NE, Washington, DC 20554. Please include OMB Control Number, 3060-1113, in your correspondence. The Commission will also accept your comments via email at PRA@fcc.gov. To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received OMB approval on January 12, 2026 of changes to 47 CFR 10.480 and 47 CFR 10.500(e) that OMB determined are non-substantive changes to the previously approved collection.

Under 5 CFR part 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control Number: 3060-1113.

OMB Approval Date: January 12, 2026.

OMB Expiration Date: August 31, 2027.

Title: Election Whether to Participate in the Wireless Emergency Alerts.

Form Number: N/A.

Type of Review: Revision of a currently approved collection.

Respondents: Business or other for-profit; Not-for-profit institutions; State, Local or Tribal Government.

Number of Respondents and Responses: 1,253 respondents; 5,176 responses.

Estimated Timer per Response: 0.50-12 hours.

Frequency of Response: On occasion and semi-annual reporting requirements.

Obligation to Respond: Required to obtain or retain benefits. Statutory authority for this collection is contained in 47 U.S.C. 151, 152, 154, 301, 303, 307, 309, 403, and 606, of the Communications Act of 1934, as amended, and 1201, 1203, 1204, and 1206 of the Warning Alert and Response Network Acts.

Total Annual Burden: 106,943 hours.

Total Annual Cost: $7,050,800.

Needs and Uses: The modifications OMB approved provides implementation details for how WEA messages will be made available by Participating CMS providers in English and the 13 most commonly spoken languages in the U.S., as well as American Sign Language. This will make these alerts available for the first time to the millions of Americans who are not native English speakers and to our hearing impaired population.

In the Multilingual WEA Implementation Order, 90 FR 57288, the Public Safety and Homeland Security Bureau requires Participating CMS Providers to implement multilingual templates for the most commonly issued and most time-sensitive types of alerts in English, the next thirteen most commonly spoken languages in the United States, and American Sign Language (ASL). Specifically, Participating CMS Providers shall support the pre-scripted templates published in 90 FR 57288 for eighteen emergency events. For English and the thirteen written languages, Participating CMS Providers must support the inclusion of four fillable elements that customize the pre-scripted alert templates: the name of the sending agency, the location pertaining to the alert message, the time when the emergency conditions described in the alert are expected to end, and an optional URL. When an alert originator sends a non-English template message, Participating CMS Providers must display the corresponding pre-scripted alert message in English after the non-English message.

Federal Communications Commission.
Zenji Nakazawa,
Chief, Public Safety Homeland Security Bureau.

[FR Doc. 2026-00960 Filed 1-16-26; 8:45 am]

BILLING CODE 6712-01-P